DEPARTMENT OF THE INTERIOR

Bureau of Land Management

[AZ 020-04-1430-EU; AZA-31774FD]

Termination of Segregation, Opening Order; Arizona

AGENCY: Bureau of Land Management, Interior.

ACTION: Notice.

SUMMARY: This notice cancels and terminates the segregative effect of a proposed land exchange of 3,912.67 acres. The land will be opened to location and entry under the general land laws, including the mining laws, subject to valid existing rights, the provisions of existing withdrawals, other segregations of record, and the requirements of applicable law.

EFFECTIVE DATE: May 12, 2004.

FOR FURTHER INFORMATION CONTACT: Jim Andersen, BLM Phoenix Field Office, 21605 North 7th Avenue, Phoenix, Arizona 85027, 623-580-5500.

SUPPLEMENTARY INFORMATION: A Decision was issued on May 16, 2001, which segregated the land described therein from location and entry under the general land laws, including the mining laws, subject to valid existing rights, for a 5-year period. The Bureau of Land Management has determined that the proposed land exchange of the following described lands will not be needed and has been canceled:

Gila and Salt River Meridian, Arizona

T. 12 N., R. 1 E.

Secs. 16, 22, 23, and 26 (Portions of).

T. 12 N., R. 2 E.

Sec. 17 (Portions of).

T. 13 N., R. 1 E.

Secs. 4, 8, 13, 15, 18, 19, 20, 21, 23, 26, 29, 30 and 31 (Portions of).

Above described property aggregates approximately 3,912.67 acres in Yavapai County.

At 9 a.m. on May 12, 2004 the land will be opened to the operation of the general land laws and to location and entry under the United States mining laws, subject to valid existing right, the provision of existing withdrawals, and other segregations of record. Appropriation of any of the land described in this order under the general mining laws prior to the date and time of restoration is unauthorized. Any such attempted appropriation, including attempted adverse possession under 30 U.S.C. 38 (1988), shall vest no rights against the United States. Acts required to establish a location and to initiate a right of possession are governed by State law where not in conflict with Federal law. The Bureau of Land Management will not intervene in disputes between rival locators over possessory rights, because Congress has provided for such determinations in local courts. All valid applications under any other general land laws received at or prior to 9 a.m. on May 12, 2004 shall be considered as simultaneously filed at that time. Those received thereafter shall be considered in the order of filing.

Dated: March 2, 2004.
Teresa A. Raml,
Field Manager.

[FR Doc. 04-8158 Filed 4-9-04; 8:45 am]

BILLING CODE 4310-32-P